DEPARTMENT OF AGRICULTURE

Forest Service

John Day/Snake Resource Advisory Council, Hells Canyon Subgroup

AGENCY: Forest Service, USDA.

ACTION: Notice of meeting.

SUMMARY: The Hells Canyon Subgroup of the John Day/Snake Resource Advisory Council will meet on September 14 and 15, 2001 at the Forest Service Administrative Site, Pittsburgh Landing. The meeting will begin at 9 a.m. and continue until 5 p.m. the first day and will begin at 8 a.m. on the second day and adjourn by 2 p.m. the final day. Agenda items to be covered include: (1) Fee Demo, (2) Adopt-A-Beach (3) Open public forum. All meetings are open to the public. Public comments will be received September 14, 2001 at 10 a.m. at the Pittsburgh Administrative Site.

FOR FURTHER INFORMATION CONTACT: Direct questions regarding this meeting to Kendall Clark, Area Ranger, USDA, Hells Canyon National Recreation Area, 88401 Highway 82, Enterprise, OR 97828, 541-426-5501.

Dated: August 14, 2000.
Karyn L. Wood,
Forest Supervisor.

[FR Doc. 01-20871 Filed 8-17-01; 8:45 am]

BILLING CODE 3410-11-M